DEPARTMENT OF STATE

[Public Notice: 7272]

60-Day Notice of Proposed Renewal of Information Collection: Form DS-0064, Statement Regarding a Lost or Stolen Passport, 1405-0014.

ACTION: Notice of request for public comments.

SUMMARY: The Department of State is seeking Office of Management and Budget (OMB) approval for the information collection renewal described below. The purpose of this notice is to allow 60 days for public comment in the Federal Register preceding submission to OMB. We are conducting this process in accordance with the Paperwork Reduction Act of 1995.

• Title of Information Collection: Statement Regarding a Lost or Stolen Passport.

• OMB Control Number: 1405-0014.

• Type of Request: Extension of a Currently Approved Collection.

• Originating Office: CA/PPT/PMO/PC.

• Form Number: DS-0064.

• Respondents: Individuals or Households.

• Estimated Number of Respondents: 122,500.

• Estimated Number of Responses: 122,500.

• Average Hours Per Response: 5 minutes.

• Total Estimated Burden: 10,208 hours.

• Frequency: On occasion.

• Obligation to Respond: Required to Obtain a Benefit.

DATES: The Department will accept comments from the public up to 60 days from December 22, 2010.

ADDRESSES: You may submit comments by any of the following methods:

• E-mail: PPT-Forms-Officer@state.gov.

• Mail (paper, disk, or CD-ROM submissions): Passport Forms Management Officer, U.S. Department of State, Office of Program Management and Operational Support, 2100 Pennsylvania Avenue, NW., Room 3031, Washington, DC 20037.

You must include the DS form number (if applicable), information collection title, and OMB control number in any correspondence.

FOR FURTHER INFORMATION CONTACT: Direct requests for additional information regarding the collection listed in this notice, including requests for copies of the proposed information collection and supporting documents, to Passport Forms Management Officer, U.S. Department of State, Office of Program Management and Operational Support, 2100 Pennsylvania Avenue, NW., Room 3031, Washington, DC 20037, who may be reached on 202-663-2457 or at PPT-Forms-Officer@state.gov.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of Proposed Collection

The form is used prior to passport issuance and solicits information relating to the loss or theft of a valid U.S. passport. The information is used by the United States Department of State to ensure that no person shall bear more than one valid or potentially valid U.S. passport book and passport card at any one time, except as authorized by the Department, and is also used to combat passport fraud and misuse.

Methodology

This form is used in conjunction with the Form DS-11, Application for a U.S. Passport, or submitted separately to report loss or theft of a U.S. passport. Passport Services collects the information when a U.S. citizen or non-citizen national applies for a new U.S. passport and has been issued a previous, still valid U.S. passport that has been lost or stolen, or when a passport holder independently reports it lost or stolen. Passport applicants can either download the form from the Internet or pick one up at any Passport Agency or Acceptance Facility.

Dated: December 15, 2010.
Barry Conway,
Deputy Assistant Secretary for Passport Services, Acting Bureau of Consular Affairs, Department of State.

[FR Doc. 2010-32135 Filed 12-21-10; 8:45 am]

BILLING CODE 4710-06-P